DEPARTMENT OF HEALTH AND HUMAN SERVICES

Substance Abuse and Mental Health Services Administration

The President's New Freedom Commission on Mental Health; Notice of Meeting

Pursuant to Executive Order 13263, notice is hereby given of a correction of a meeting of the President's New Freedom Commission on Mental Health to be held in March 2003.

Public notice was given in the Federal Register on February 7, 2003 (Volume 68, Number 26, page 6496) that the President's New Freedom Commission on Mental Health would be meeting on March 5 and 6, 2003 at the Crystal Gateway Marriott, 1700 Jefferson Davis Highway, Arlington, Virginia. The date and time of this meeting have subsequently changed to March 5, 2003, 10:45 a.m. to 5:30 p.m. The agenda of the meeting and contact for additional information remain as announced.

Dated: February 14, 2003.
Toian Vaughn,
Committee Management Officer, Substance Abuse and Mental Health Services Administration.

[FR Doc. 03-4157 Filed 2-20-03; 8:45 am]

BILLING CODE 4162-20-P